DEPARTMENT OF ENERGY

Federal Energy Regulatory Commission

[Project No. 2017-011-CA]

Southern California Edison Company; Notice

January 23, 2002.

Vince Yearick, of the Commission's Office of Energy Projects, (202) 219-3073, has been assigned to assist in any settlement process that may transpire in the above-captioned proceeding. He has been separated from, and will not participate as, advisory staff in this proceeding.

Linwood A. Watson, Jr.,
Acting Secretary.

[FR Doc. 02-2099 Filed 1-28-02; 8:45 am]

BILLING CODE 6717-01-P